DEPARTMENT OF THE TREASURY

Submission for OMB Review; Comment Request

October 5, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 13, 2006 to be assured of consideration.

Internal Revenue Service (IRS)

OMB Number: 1545-0160.

Type of Review: Extension.

Title: Annual Information Return of Foreign Trust with a U.S. Owner.

Forms: 3520-A.

Description: Section 6048(b) requires that foreign trusts with at least one U.S. beneficiary must file an annual information return on Form 3520-A. The form is used to report the income and deductions of the foreign trust and provide statements to the U.S. owners and beneficiaries. IRS uses Form 3520-A to determine if the U.S. owner of the trust has included the net income of the trust in its gross income.

Respondents: Individuals or households.

Estimated Total Burden Hours: 21,700 hours.

OMB Number: 1545-1560.

Type of Review: Extension.

Title: Public Disclosure of Material Relating to Tax-Exempt Organizations.

Description: The collections of information in section 301.6104(d)-3, 301.6104(d)-4 and 301.6104(d)-5 are necessary so that tax-exempt organizations can make copies of their applications for tax exemption and annual information returns available to the public.

Respondents: Not-for-profit institutions.

Estimated Total Burden Hours: 551,500 hours.

OMB Number: 1545-1846.

Type of Review: Extension.

Title: Revenue Procedure 2003-48, Update of Checklist Questionnaire Regarding Requests for Spin-Off Rulings.

Description: This revenue procedure updates Rev. Proc. 96-30, which sets forth in a checklist questionnaire the information that must be included in a request for ruling under section 355. This revenue procedure updates information that taxpayers must provide in order to receive letter rulings under section 355. This information is required to determine whether a taxpayer would qualify for non-recognition treatment.

Respondents: Business or other for profit institutions.

Estimated Total Burden Hours: 36,000 hours.

OMB Number: 1545-0393.

Type of Review: Extension.

Title: Return Requesting Refund Unlocatable or Not Filed.

Description: The code requires tax returns to be filed. It also authorizes IRS to refund any overpayment of tax. If a taxpayer inquires about their non-receipt of refund and no return is found, this letter is sent requesting the taxpayer to file another return.

Respondents: Business or other for profit institutions.

Estimated Total Burden Hours: 1,513 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-16883 Filed 10-11-06; 8:45 am]

BILLING CODE 4830-01-P